SURFACE TRANSPORTATION BOARD

[Docket No. AB 1277X]

Savage Davenport Railroad Company—Discontinuance of Service Exemption—in Scott County, Iowa

On June 28, 2019, Savage Davenport Railroad Company (SDR) filed with the Board a petition under 49 U.S.C. 10502 for an exemption from the prior approval requirements of 49 U.S.C. 10903, to enable SDR to discontinue its operations over a rail line (the Line) owned by the City of Davenport, Iowa (the City), in Scott County, Iowa. The Line is approximately 2.8 miles long, extending from a switch near milepost 191.2 on the main line of a Canadian Pacific Railway subsidiary, west and south to the Davenport Transload Facility owned by the City. The Line traverses U.S. Postal Service Zip Code 52748.

According to SDR, the Line was constructed, and is owned, by the City ¹ and is subject to a lease between the City and SDR, requiring SDR to provide common carrier rail service over the Line, serving industrial shippers.² SDR explains that it began operations on the Line in March of 2018, serving one rail customer and the Transload Facility. SDR states that the Transload Facility currently has zero activity. (Pet. 3 n.3.) SDR states that it has advised the City of its desire to discontinue service, and the City has raised no objection provided a suitable replacement is identified. (Id. at 3.) SDR states that, based on the information in SDR's possession, the Line does not contain federally granted rights-of-way. Any documentation in SDR's possession will be made available promptly to those requesting it.

¹ See City of Davenport—Construction & Operation Exemption—in Scott Cty., Iowa, FD 35237 (STB served Apr. 6, 2011).

² See Savage Davenport R.R.—Lease & Operation Exemption—City of Davenport, FD 36142 (STB served Sept. 1, 2017).

As a condition to this exemption, any employee adversely affected by the discontinuance of service shall be protected under Oregon Short Line Railroad—Abandonment Portion Goshen Branch Between Firth & Ammon, in Bingham & Bonneville Counties, Idaho, 360 I.C.C. 91 (1979).

Because this is a discontinuance proceeding and not an abandonment proceeding, trail use/rail banking and public use conditions are not appropriate. Because there will be an environmental review during any subsequent abandonment proceeding, this discontinuance does not require an environmental review. See 49 CFR 1105.8(b).

By issuance of this notice, the Board is instituting an exemption proceeding pursuant to 49 U.S.C. 10502(b). A final decision will be issued by October 16, 2019.

Any offer of financial assistance (OFA) for subsidy under 49 CFR 1152.27(b)(2) will be due no later than 120 days after the filing of the petition for exemption, or 10 days after service of a decision granting the petition for exemption, whichever occurs sooner.³ Persons interested in submitting an OFA must first file a formal expression of intent to file an offer by July 29, 2019, indicating the intent to file an OFA for subsidy and demonstrating that they are preliminarily financially responsible. See 49 CFR 1152.27(c)(1)(i).

³ The filing fee for OFAs can be found at 49 CFR 1002.2(f)(25).

All filings in response to this notice must refer to STB Docket No. AB 1277X and must be filed with the Surface Transportation Board either via e-filing or in writing addressed to 395 E Street SW, Washington, DC 20423-0001. In addition, a copy of each pleading must be served on SDR's representative, Richard F. Riley, Jr., Foley & Lardner LLP, 3000 K Street NW, Suite 600, Washington, DC 20007-5109. Replies to the petition are due on or before August 7, 2019.

Persons seeking further information concerning discontinuance procedures may contact the Board's Office of Public Assistance, Governmental Affairs, and Compliance at (202) 245-0238 or refer to the full abandonment and discontinuance regulations at 49 CFR. part 1152. Questions concerning environmental issues may be directed to the Board's Office of Environmental Analysis at (202) 245-0305. Assistance for the hearing impaired is available through the Federal Relay Service at 1-800-877-8339.

Board decisions and notices are available at www.stb.gov.

Decided: July 15, 2019.
By the Board, Allison C. Davis, Director, Office of Proceedings.
Jeffrey Herzig,
Clearance Clerk.

[FR Doc. 2019-15288 Filed 7-17-19; 8:45 am]

BILLING CODE 4915-01-P